NATIONAL CREDIT UNION ADMINISTRATION

Sunshine Act Meeting

TIME AND DATE:

2:00 p.m., Wednesday, October 28, 2020

Recess: 2:30 p.m.

2:45 p.m., Wednesday, October 28, 2020

PLACE: Due to the COVID-19 Pandemic, the meeting will be open to the public via live webcast only. Visit the agency's homepage (www.ncua.gov.) and access the provided webcast link.

STATUS: Parts of this meeting will be open to the public. The rest of the meeting will be closed to the public.

MATTERS TO BE CONSIDERED:

PORTIONS OPEN TO THE PUBLIC:

1. NCUA Rules and Regulations, Role of Supervisory Guidance.

PORTIONS CLOSED TO THE PUBLIC:

1. Personnel Matter. Closed pursuant to Exemptions (2), and (6).

2. Personnel Matter. Closed pursuant to Exemptions (2), and (6).

CONTACT PERSON FOR MORE INFORMATION: Gerard Poliquin, Secretary of the Board, Telephone: 703-518-6304.

Gerard Poliquin,
Secretary of the Board.

[FR Doc. 2020-23704 Filed 10-22-20; 4:15 pm]

BILLING CODE 7535-01-P